DEPARTMENT OF COMMERCE

National Oceanic and Atmospheric Administration

Advisory Committee for the Sustained National Climate Assessment

AGENCY: Office of Oceanic and Atmospheric Research (OAR), National Oceanic and Atmospheric Administration (NOAA), Department of Commerce (DOC).

ACTION: Notice of public meeting.

SUMMARY: This notice sets forth the schedule and proposed agenda of a forthcoming meeting of the Advisory Committee for the Sustained National Climate assessment. The members will discuss issues outlined in the section on Matters to be considered.

DATES: The meeting is scheduled for May 15, 2017 from 3:00 p.m. to 6:00 p.m. Eastern Standard Time. These times and the agenda topics described below are subject to change. Please refer to the Advisory Committee's Web site: http://sncaadvisorycommittee.noaa.gov/Meetings.aspx.

ADDRESSES: Conference call. Public access is available at: NOAA, SSMC 3 Room 10817, 1315 East-West Highway, Silver Spring, MD. Members of the public may participate virtually by registering at: https://attendee.gotowebinar.com/register/8089294344504416514.

FOR FURTHER INFORMATION CONTACT: Dr. Cynthia Decker, Designated Federal Officer, SSMC3, Room 11230, 1315 East-West Hwy., Silver Spring, MD 20910; Email: snca.advisorycommittee@noaa.gov; or visit the Advisory Committee Web site http://sncaadvisorycommittee.noaa.gov.

SUPPLEMENTARY INFORMATION: The Advisory Committee for the Sustained National Climate Assessment was established by a Decision Memorandum, dated August 20, 2015. The Committee's mission is to provide advice on sustained National Climate Assessment activities and products to the Under Secretary of Commerce for Oceans and Atmosphere (Under Secretary), who will forward the advice to the Director of the Office of Science Technology Policy (OSTP). The Committee will advise on the engagement of stakeholders and on sustained assessment activities and the quadrennial National Climate Assessment (NCA4) report.

Status: The meeting will be open to public participation with a 15-minute public comment period from 5:30-5:45 p.m. Eastern Standard Time. The Advisory Committee expects that public statements presented at its meetings will not be repetitive of previously submitted verbal or written statements. In general, each individual or group making a verbal presentation will be limited to a total time of three minutes. If the number of registrants requesting to speak is greater than can be reasonably accommodated during the scheduled public comment periods, written comments can be submitted in lieu of oral comments. Written comments should be received in the Designated Federal Officer's office by May 10 to provide sufficient time for Advisory Committee review. Written comments received by the Designated Federal Officer after May 10, will be distributed to the Advisory Committee, but may not be reviewed prior to the meeting date.

Special Accommodations: These meetings are physically accessible to people with disabilities. Requests for special accommodations may be directed no later than 12 p.m. on May 10.

Registration: Individuals and groups who wish to attend the public meeting are requested to pre-register by May 10.

Individuals or groups may register, submit written statements, and request to make oral comments, and/or request special accommodations by either of the following methods:

• Send an email message to snca.advisorycommittee@noaa.gov. Please Include `May 2017 Teleconference' on the subject line; or

• Send paper statements to Dr. Cynthia Decker, Designated Federal Officer, SSMC3, Room 11230, 1315 East-West Hwy, Silver Spring, MD 20910.

Matters To Be Considered: The meeting will include discussions on the committee's proposed focus areas for addressing NOAA's request, on behalf of the Subcommittee on Global Change Research, to “develop a set of recommendations for a Sustained Assessment process by Spring 2018. Meeting materials, including work products will be made available on the Advisory Committee's Web site: http://sncaadvisorycommittee.noaa.gov/Meetings.aspx.

Dated: April 26, 2017.
Paul Johnson,
Acting Deputy Chief Financial Officer/CAO, Office of Oceanic and Atmospheric Research, National Oceanic and Atmospheric Administration.

[FR Doc. 2017-08758 Filed 4-28-17; 8:45 am]

BILLING CODE 3510-KD-P